DEPARTMENT OF ENERGY

Federal Energy Regulatory Commission

[Docket No. RP01-181-000]

Transcontinental Gas Pipe Line Corporation; Notice of Tariff Filing

December 13, 2000.

Take notice that on December 8, 2000, Transcontinental Gas Pipe Line Corporation (Transco) tendered for filing as part of its FERC Gas Tariff, Third Revised Volume No. 1, certain revised tariff sheets, which sheets are enumerated in Appendix A to the filing.

Transco states that the purpose of the instant filing is track rate changes attributable to transportation service purchased from Dominion Transmission, Inc. (Dominion) (formerly CNG Transmission Corporation) under its Rate Schedule GSS the costs of which are included in the rates and charges payable under Transco's Rate Schedules GSS and LSS, and storage service purchased from Texas Eastern Transmission Corporation under its Rate Schedule X-28 the costs of which are included in the rates and charges payable under Transco's Rate Schedule S-2. The filing is being made pursuant to tracking provisions under Section 3 of Transco's Rate Schedule GSS, Section 4 of the Transco's Rate Schedule LSS and Section 26 of the General Terms and Conditions of Transco's Third Revised Volume No. 1 Tariff.

Transco states that included in Appendix B and C attached to the filing are the explanations and details regarding the computation of the Rate Schedule GSS, LSS and S-2 rate changes.

Transco states that copies of the filing are being mailed to each of its GSS, LSS and S-2 customers and interested State Commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers.
Secretary.

[FR Doc. 00-32275 Filed 12-18-00; 8:45 am]

BILLING CODE 6717-01-M